INTERNATIONAL TRADE COMMISSION

Proposed Collection; Comment Request

AGENCY: U.S. International Trade Commission.

ACTION: Notice of proposed collection; comment request.

SUMMARY: The proposed information collection is a user survey that solicits feedback on the investigative procedures used by the Commission in its import injury investigations. Comments concerning the proposed user survey are requested in accordance with the Paperwork Reduction Act of 1995, Public Law 104-13 (44 U.S.C. 3506(c)(2)(A)).

DATES: Written comments must be submitted on or before November 7, 2005.

ADDRESSES: Direct all written comments to Marilyn Abbott, Secretary, U.S. International Trade Commission, 500 E Street SW., Washington, DC 20436.

FOR FURTHER INFORMATION CONTACT: Copies of the proposed information collection may be obtained from: Debra Baker, Office of Investigations, U.S. International Trade Commission (phone number—202-205-3180; e-mail address-Debra.Baker@usitc.gov).

SUPPLEMENTARY INFORMATION:

I. Abstract

The proposed information collection seeks to gather feedback to allow the Commission to ensure that its procedures for its import injury investigations are fair and are equitably implemented. The user survey asks if the Commission's rules and other written guidance make clear to participants what the Commission expects of them procedurally in an investigation; if there are area(s) where additional guidance would be of benefit to their participation in investigations; if the Commission personnel responded to procedural inquiries in a helpful way; if their access to information collected by/submitted to the Commission was satisfactory; and if they have any other comments or recommended improvements.

II. Method of Collection

The user survey is a one-page form that will be sent to firms that have participated in an antidumping, countervailing duty, or safeguard investigation since October 1, 2003. Responses are voluntary.

III. Data

OMB Number: 3117-0192.

Type of Review: Regular submission.

Affected Public: Law firms and economic consulting groups.

Estimated Number of Respondents: 50.

Estimated Time Per Response: 1 hour.

Estimated Total Annual Burden Hours: 50 hours.

Estimated Total Annual Costs: The estimated annual cost for this collection is $10,750 ($10,000 for respondents and $750 for the Federal government).

IV. Request for Comments

Comments are solicited as to (1) whether the user survey is necessary for the proper performance of the functions of the agency, including whether the information will have practical utility; (2) the accuracy of the agency's estimate of the burden (including hours and costs) of the user survey; (3) ways to enhance the quality, utility, and clarity of the information to be collected; and (4) ways to minimize the burden of the user survey on those who are to respond (including through the use of automated collection techniques or other technological forms of information technology).

Comments submitted in response to this notice will be summarized and/or included in the request for OMB approval of this information collection; they also will become a matter of public record.

By order of the Commission.
Issued: August 31, 2005.
Marilyn R. Abbott,
Secretary to the Commission.

[FR Doc. 05-17738 Filed 9-7-05; 8:45 am]

BILLING CODE 7020-02-P